DEPARTMENT OF ENERGY

Federal Energy Regulatory Commission

[Project Nos. 13437-001, 13438-001, 14118-000, 14119-000]

Free Flow Power Corporation; Notice of Intent To File License Application, Filing of Pre-Application Document, and Approving Use of the Traditional Licensing Process

a. Type of Filing: Notice of Intent To File License Application and Request to Use the Traditional Licensing Process.

b. Project Nos.: P-13437-001, P-13438-001, P-14118-000 and P-14119-000.

c. Dated Filed: March 25, 2011.

d. Submitted by: Free Flow Power Corporation (Free Flow Power), on behalf of its subsidiaries FFP Iowa 1, LLC and FFP Iowa 2, LLC.

e. Name of Projects: Mississippi River Lock and Dam No. 12 Project, P-13438-001; Mississippi River Lock and Dam No. 12—Auxiliary Lock Water Power Project, P-14118-000; Mississippi River Lock and Dam No. 13 Project, P—13437-001; Mississippi River Lock and Dam No. 13—Auxiliary Lock Water Power Project, P-14119-000.

f. Location: At existing locks and dams owned and operated by the U.S. Army Corps of Engineers on the Mississippi River in Iowa and Illinois (see table below for specific project locations). The projects would occupy United States lands administered by the U.S. Army Corps of Engineers.

Project No. | Projects | County(s)/state(s) | Township name(s)
P-13438/P-14118 | Mississippi River Lock and Dam No. 12 Project; Mississippi River Lock and Dam No. 12—Auxiliary Lock Water Power Project | Jo Daviess, IL, Jackson, IA | Hanover, IL, Bellevue, IA.
P-13437/P-14119 | Mississippi River Lock and Dam No. 13 Project; Mississippi River Lock and Dam No. 13—Auxiliary Lock Water Power Project | Whiteside, IL, Clinton, IA | Fulton, IL, Elk River, IA.

g. Filed Pursuant to: 18 CFR 5.3 of the Commission's regulations.

h. Potential Applicant Contact: Ramya Swaminathan, Chief Operating Officer, Free Flow Power, 239 Causeway Street, Boston, MA 02114-2130; (978) 283-2822; or e-mail at rswaminathan@free-flow-power.com.

i. FERC Contact: Lesley Kordella at (202) 502-6406; or e-mail at Lesley.Kordella@ferc.gov.

j. Free Flow Power filed its request to use the Traditional Licensing Process on March 25, 2011. Free Flow Power provided public notice of its request on December 23, 27, and 29, 2010. In a letter dated April 20, 2011, the Director of the Office of Energy Projects approved Free Flow Power's request to use the Traditional Licensing Process.

k. With this notice, we are initiating informal consultation with: (a) The U.S. Fish and Wildlife Service and NOAA Fisheries under section 7 of the Endangered Species Act and the joint agency regulations thereunder at 50 CFR, Part 402; (b) NOAA Fisheries under section 305(b) of the Magnuson-Stevens Fishery Conservation and Management Act and implementing regulations at 50 CFR 600.920; and (c) the Illinois and Iowa State Historic Preservation Officers, as required by section 106, National Historic Preservation Act, and the implementing regulations of the Advisory Council on Historic Preservation at 36 CFR 800.2.

l. With this notice, we are designating Free Flow Power as the Commission's non-federal representative for carrying out informal consultation, pursuant to section 7 of the Endangered Species Act, section 305 of the Magnuson-Stevens Fishery Conservation and Management Act, and section 106 of the National Historic Preservation Act.

m. Free Flow Power filed a Pre-Application Document (PAD; including a proposed process plan and schedule) with the Commission, pursuant to 18 CFR 5.6 of the Commission's regulations.

n. A copy of the PAD is available for review at the Commission in the Public Reference Room or may be viewed on the Commission's Web site (http://www.ferc.gov), using the “eLibrary” link. Enter the docket number, excluding the last three digits in the docket number field to access the document. For assistance, contact FERC Online Support at FERCOnlineSupport@ferc.gov or toll free at 1-866-208-3676, or for TTY, (202) 502-8659. A copy is also available for inspection and reproduction at the address in paragraph h.

o. Register online at http://www.ferc.gov/docs-filing/esubscription.asp to be notified via e-mail of new filing and issuances related to this or other pending projects. For assistance, contact FERC Online Support.

Dated: April 22, 2011.
Kimberly D. Bose,
Secretary.

[FR Doc. 2011-10316 Filed 4-28-11; 8:45 am]

BILLING CODE 6717-01-P